DEPARTMENT OF TRANSPORTATION

Federal Aviation Administration

First Meeting: RTCA Special Committee 207/Airport Security Access Control Systems

AGENCY: Federal Aviation Administration (FAA), DOT.

ACTION: Notice of RTCA Special Committee 207 Meeting, Airport Security Access Control Systems.

SUMMARY: The FAA is issuing this notice to advise the public of a meeting of RTCA Special Committee 207, Airport Security Access Control Systems.

DATES: The meeting will be held January 18-19, 2006, from 9 a.m.-5 p.m.

ADDRESSES: The meeting will be held at RTCA, Inc., MacIntosh-NBAA & Hilton-ATA Rooms, 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 207 meeting. The agenda will include:

• January 18:

• Opening Plenary Session (Welcome, Introductions, and Administrative Remarks)

• Agenda Overview

• Workgroup Reports

• Workgroup 2

• Workgroup 3

• Workgroup 4

• Workgroup 5

• Workgroup 6

• Workgroup 7

• ICAO Update

• Discussions on vendor presentations—guidelines are as follows: The vendor/product categories sought are under Access Control, Perimeter Intrusion Detection, Biometric Systems/Devices, and Credentialing of employees. Each vendor seeking to present a short (maximum of 15 minutes) presentation to the committee members, will provide the briefing package, slides and supporting documents to Mr. Paul S. Ruwaldt (paul.ruwaldt@dhs.gov or paul.s.ruwaldt@tc.faa.gov) by January 4th, 2006, outlining the following:

• If the product is an access control system, sub-system or component of or could be applied to an airport access control system, the vendor is required to submit documentation, in written form, attesting to their understanding of the current DO-230A Airport Access Control Standard requirements and a description of how their product, system, sub-system or component complies with this current standard (this document will be inclusive of how their product(s) would be utilized in an automated access control system suitable for use under the requirements included in 49 CFR subpart 1500 et al.).

• How their product(s) would provide for (or enhance) the security objectives of the airport, and

• How their product(s) would be integrated into an airport comprehensive security system.

It is strongly suggested that the vendors requesting presentation time be fully cognizant of the airline and airport operational requirements as they apply to automated access control systems, perimeter intrusion detection, biometric system applications and credentialing application of employees, as well as the performance requirements of DO-230A and how their product(s) will interface, integrate or fuse (data) with automated access control systems. Further, it is suggested that the vendor by fully aware of how these operational and performance conditions will affect their product(s) and the access control procedures.

In addition, for those products or systems incorporating biometrics, specific reference and discussions will address the Biometric Guidance Package released and approved by the TSA this year.

The vendor presentation must strictly be pertinent to their product(s) and the relevant 49 CFR subpart 1500 et al. requirements for airport access control systems. The vendor must demonstrate their product's suitability to airline and airport operational access control conditions and illustrate how their product(s) would be deployed in automated access control systems and/or how their product(s) can be integrated into the automated access control systems.

The SC-207 committee emphasizes that this RTCA standard pertains only to airport access control systems, although there may be opportunities for future integration with other airport and federal information and/or communication technologies.

Further, the committee is interested in proven and available COTS technologies and/or products. The committee is not interested in yet untested, developmental concepts, representative products, systems or sub-systems or proprietary systems.

The vendors making presentations will be required to provide a soft copies of the material they wish to present to the committee. No material save that provided by the vendor by the 5th of January 2006 will be accepted or received by the Committee during the presentation on January 18th & 19th, 2006.

The presentations provided by the vendors will be collected and made available to the committee members in CD format on the day of the presentation.

It is expected that there will be only a limited presentation opportunity on these two days. Reservations will be made on a first come first served basis.

The Vendor should contact Mr. Ruwaldt via email to express interest in presenting. Once Mr. Ruwaldt receives the material, he will schedule the vendor's presentation time and date. All material must be received before this scheduling can take place.

If the presentation schedule is full for these two days, following consultation with the SC-207 Chairman, an additional presentation date in March could be allocated, however all vendors should not rely on this, and attempt to develop and provide their product(s) presentations as early as possible.

SC-207, in its deliberations for the updated standard DO-230B, is considering requiring that the products, systems, sub-systems and components utilized within airport access control systems, inclusive of perimeter, biometric intrusion detection and surveillance functions should be tested and verified to the requirements defined within the proposed DO-230B Standard.

Any such decision, including the identification of a responsible authority for conducting such verifications (or potential certification of products) will be taken before the final issuance of DO-230B.

• Closing Plenary Session (Other Business, Establish Agenda, Date and Place for Fourth, Fifth and Sixth Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 14, 2005.
Natalie Ogletree,
FAA General Engineer, RTCA Advisory Committee.

[FR Doc. 05-24320 Filed 12-20-05; 8:45am]

BILLING CODE 4910-13-M